DEPARTMENT OF LABOR

Office of the Secretary

Submission for OMB Review: Comment Request

February 19, 2010.

The Department of Labor (DOL) hereby announces the submission of the following public information collection requests (ICR) to the Office of Management and Budget (OMB) for review and approval in accordance with the Paperwork Reduction Act of 1995 (Pub. L. 104-13, 44 U.S.C. chapter 35). A copy of each ICR, with applicable supporting documentation; including among other things a description of the likely respondents, proposed frequency of response, and estimated total burden may be obtained from the RegInfo.gov Web site at http://www.reginfo.gov/public/do/PRAMain or by contacting Darrin King on 202-693-4129 (this is not a toll-free number)/e-mail: DOL_PRA_PUBLIC@dol.gov.

Interested parties are encouraged to send comments to the Office of Information and Regulatory Affairs, Attn: OMB Desk Officer for the Department of Labor—Employee Benefits Security Administration (EBSA), Office of Management and Budget, Room 10235, Washington, DC 20503, Telephone: 202-395-7316/Fax: 202-395-5806 (these are not toll-free numbers), e-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employee Benefits Security Administration.

Type of Review: Extension without change of a currently approved collection.

Title of Collection: Annual Report for Multiple Employer Welfare Arrangements (Form M-1).

OMB Control Number: 1210-0116.

Affected Public: Private sector.

Estimated Number of Respondents: 464.

Total Estimated Annual Burden Hours: 62.

Total Estimated Annual Costs Burden (excludes hourly wage costs): $44,000.

Description: The Health Insurance Portability and Accountability Act of 1996 (HIPAA), codified as Part 7 of Title I of the Employee Retirement Security Act of 1974 (ERISA), was enacted to improve the portability and continuity of health care coverage for participants and beneficiaries of group health plans. To insure compliance with Part 7, section 101(g) of ERISA, HIPAA permits the Secretary of Labor (the Secretary) to require multiple employer welfare arrangements (MEWAs), as defined in section 3(40) of ERISA, to report to the Secretary in such form and manner as the Secretary might determine. The Department of Labor (the Department) published a final rule providing for such reporting on an annual basis, together with a form (Form M-1) to be used by MEWAs for the annual report. See 29 CFR 2520.101-2.

Pursuant to section 101(g) of ERISA, the Form M-1 information is used by governmental oversight entities to determine the extent of compliance with the requirements of Part 7 of ERISA by MEWAs and ECEs under section 3(40) of ERISA and to take appropriate compliance assistance and enforcement actions. For additional information, see related notice published in the Federal Register on November 27, 2009 (Vol. 74, page 62350).

Agency: Employee Benefits Security Administration.

Type of Review: Extension without change of a currently approved collection.

Title of Collection: ERISA Investment Manager Electronic Registration.

OMB Control Number: 1210-0125.

Affected Public: Private sector.

Estimated Number of Respondents: 10.

Total Estimated Annual Burden Hours: 12.

Total Estimated Annual Costs Burden (excludes hourly wage costs): $730.

Description: The Department's regulation at 29 CFR 2510.3-38 provides that, in order to meet the definition of investment manager in section 3(38) of the Employee Retirement Income Security Act of 1974, State-registered investment advisers must register electronically through a centralized electronic filing system established by the Securities Exchange Commission and State investment authorities called the Investment Adviser Registration Depository rather than providing a paper copy of their State registration to the Secretary of Labor. For additional information, see related notice published in the Federal Register on November 27, 2009 (Vol. 74, page 62350).

Darrin A. King,
Departmental Clearance Officer.

[FR Doc. 2010-3789 Filed 2-24-10; 8:45 am]

BILLING CODE 4510-29-P